DEPARTMENT OF TRANSPORTATION

Federal Aviation Administration

14 CFR Part 95

[Docket No. 30922; Amdt. No. 3557]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, October 17, 2013.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 17, 2013.
John Duncan,
Acting Director, Flight Standards Service.

Adoption of the Amendment

Accordingly, pursuant to the authority delegated to me by the Administrator, part 95 of the Federal Aviation Regulations (14 CFR part 95) is amended as follows effective at 0901 UTC, October 17, 2013.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 509 effective date October 17, 2013]
From | To | MEA | MAA
§ 95.3000 Low Altitude RNAV Routes
§ 95.3212 RNAV Route T212 Is Amended by Adding
RASHE, PA FIX | SELINSGROVE, PA VORTAC | 4000 | 17500
SELINSGROVE, PA VORTAC | DIANO, PA FIX | 3700 | 17500
DIANO, PA FIX | WILKES-BARRE, PA VORTAC | 5000 | 17500
WILKES-BARRE, PA VORTAC | LAAYK, PA FIX | 4000 | 17500
LAAYK, PA FIX | WEETS, NY FIX | 4700 | 17500
Is Amended To Read in Part
WEETS, NY FIX | NELIE, CT FIX | 3500 | 17500
NELIE, CT FIX | PUTNAM, CT VOR/DME | 3000 | 17500
§ 95.3216 RNAV Route T216 Is Added To Read
PHILIPSBURG, PA VORTAC | WILLIAMSPORT, PA VOR/DME | 4200 | 17500
WILLIAMSPORT, PA VOR/DME | ELEXY, PA WP | 4500 | 17500
ELEXY, PA WP | LAAYK, PA FIX | 4100 | 17500
LAAYK, PA FIX | HELON, NY FIX | 4000 | 17500
HELON, NY FIX | KINGSTON, NY VOR/DME | 4000 | 17500
KINGSTON, NY VOR/DME | MOONI, CT FIX | 3200 | 17500
MOONI, CT FIX | HARTFORD, CT VOR/DME | 3200 | 17500
HARTFORD, CT VOR/DME | GROTON, CT VOR/DME | 2600 | 17500
GROTON, CT VOR/DME | SANDY POINT, RI VOR/DME | *2000 | 17500
*1500—MOCA
SANDY POINT, RI VOR/DME | NANTUCKET, MA VOR/DME | 2000 | 17500
§ 95.3218 RNAV Route T218 Is Added To Read
STONYFORK, PA VOR/DME | LAAYK, PA FIX | 4200 | 17500
LAAYK, PA FIX | SPARTA, NJ VORTAC | 4000 | 17500
§ 95.3221 RNAV Route T221 Is Added To Read
MAZIE, PA FIX | ALLENTOWN, PA VORTAC | *3000 | 17500
*2200—MOCA
ALLENTOWN, PA VORTAC | BINGHAMTON, NY VORTAC | 4000 | 17500
§ 95.3287 RNAV Route T287 Is Added To Read
DENNN, VA WP | CAARY, VA WP | *5200 | 10000
*3400—MOCA
CAARY, VA WP | WILMY, VA WP | *6900 | 10000
*6100—MOCA
WILMY, VA WP | KAIJE, VA WP | *5400 | 10000
*4900—MOCA
KAIJE, VA WP | BAMMY, WV WP | 5500 | 10000
BAMMY, WV WP | REEES, PA WP | *5000 | 10000
*4300—MOCA
REEES, PA WP | TOMYD, MD WP | *5000 | 10000
*3800—MOCA
§ 95.3291 RNAV Route T291 Is Amended by Adding
HARRISBURG, PA VORTAC | SELINSGROVE, PA VORTAC | 3300 | 17500
SELINSGROVE, PA VORTAC | MILTON, PA VORTAC | 3200 | 17500
MILTON, PA VORTAC | MEGSS, PA FIX | 3500 | 17500
MEGSS, PA FIX | LAAYK, PA FIX | 4000 | 17500
LAAYK, PA FIX | DELANCEY, NY VOR/DME | 4400 | 17500
DELANCEY, NY VOR/DME | ALBANY, NY VORTAC | 5600 | 17500
§ 95.3295 RNAV Route T295 Is Amended by Adding
LANCASTER, PA VORTAC | WILKES-BARRE, PA VORTAC | 4000 | 17500
WILKES-BARRE, PA VORTAC | LAAYK, PA FIX | 4000 | 17500
LAAYK, PA FIX | SAGES, NY FIX | 6400 | 17500
SAGES, NY FIX | SASHA, MA FIX | 6100 | 17500
SASHA, MA FIX | KEENE, NH VORTAC | 3600 | 17500
KEENE, NH VORTAC | CONCORD, NH VORTAC | 5000 | 17500
CONCORD, NH VORTAC | KENNEBUNK, ME VOR/DME | 3000 | 17500
KENNEBUNK, ME VOR/DME | BRNNS, ME FIX | 3000 | 17500
BRNNS, ME FIX | BANGOR, ME VORTAC | 3000 | 17500
BANGOR, ME VORTAC | PRINCETON, ME VOR/DME | 3100 | 17500
§ 95.3299 RNAV Route T299 Is Added To Read
UCREK, VA WP | KAIJE, VA WP | 5000 | 10000
KAIJE, VA WP | BAMMY, WV WP | 5500 | 10000
BAMMY, WV WP | REEES, PA WP | *5000 | 10000
*4300—MOCA
REEES, PA WP | SCAPE, PA FIX | *5000 | 10000
*3800—MOCA
§ 95.4000 High Altitude RNAV Routes
§ 95.4080 RNAV ROUTE Q80 Is Amended To Read in Part
FAREV, KY WP | JEDER, KY WP | *18000 | 45000
*18000—GNSS MEA
*DME/DME/IRU MEA
§ 95.4436 RNAV Route Q436 Is Added To Read
EMMMA, MI FIX | DIXSN, MI WP | *18000 | 45000
*18000—GNSS MEA
*DME/DME/IRU MEA
DIXSN, MI WP | BOOTT, MI WP | *18000 | 45000
*18000—GNSS MEA
*DME/DME/IRU MEA
BOOTT, MI WP | RRONS, MI WP | *18000 | 45000
*18000—GNSS MEA
*DME/DME/IRU MEA
RRONS, MI WP | YARRK, CA WP | *18000 | 45000
*18000—GNSS MEA
*DME/DME/IRU MEA
YARRK, CA WP | CHAAP, CA WP | *18000 | 45000
*18000—GNSS MEA
*DME/DME/IRU MEA
CHAAP, CA WP | RAAKK, NY WP | *18000 | 45000
*18000—GNSS MEA
*DME/DME/IRU MEA
RAAKK, NY WP | HERBA, NY WP | *18000 | 45000
*18000—GNSS MEA
*DME/DME/IRU MEA
HERBA, NY WP | REXXY, NY WP | *18000 | 45000
*18000—GNSS MEA
*DME/DME/IRU MEA
REXXY, NY WP | REBBL, PA WP | *18000 | 45000
*18000—GNSS MEA
*DME/DME/IRU MEA
REBBL, PA WP | MTCAF, PA WP | *18000 | 45000
*18000—GNSS MEA
*DME/DME/IRU MEA
MTCAF, PA WP | DGRAF, PA WP | *18000 | 45000
*18000—GNSS MEA
*DME/DME/IRU MEA
DGRAF, PA WP | YYOST, PA WP | *18000 | 45000
*18000—GNSS MEA
*DME/DME/IRU MEA
YYOST, PA WP | LAAYK, PA FIX | *18000 | 45000
*18000—GNSS MEA
*DME/DME/IRU MEA
LAAYK, PA FIX | COATE, NJ FIX | *18000 | 45000
*18000—GNSS MEA
*DME/DME/IRU MEA
§ 95.4438 RNAV Route Q438 Is Added To Read
RUBYY, MI WP | FLINT, MI VORTAC | *18000 | 45000
*18000—GNSS MEA
*DME/DME/IRU MEA
FLINT, MI VORTAC | BERYS, MI WP | *18000 | 45000
*18000—GNSS MEA
*DME/DME/IRU MEA
BERYS, MI WP | TWIGS, MI WP | *18000 | 45000
*18000—GNSS MEA
*DME/DME/IRU MEA
TWIGS, MI WP | JAAJA, CA WP | *18000 | 45000
*18000—GNSS MEA
*DME/DME/IRU MEA
JAAJA, CA WP | ICHOL, CA WP | *18000 | 45000
*18000—GNSS MEA
*DME/DME/IRU MEA
ICHOL, CA WP | FARGN, CA WP | *18000 | 45000
*18000—GNSS MEA
*DME/DME/IRU MEA
FARGN, CA WP | RAAKK, NY WP | *18000 | 45000
*18000—GNSS MEA
*DME/DME/IRU MEA
§ 95.4440 RNAV Route Q440 Is Added To Read
SLLAP, MI WP | FLINT, MI VORTAC | *18000 | 45000
*18000—GNSS MEA
*DME/DME/IRU MEA
FLINT, MI VORTAC | BERYS, MI WP | *18000 | 45000
*18000—GNSS MEA
*DME/DME/IRU MEA
BERYS, MI WP | TWIGS, MI WP | *18000 | 45000
*18000—GNSS MEA
*DME/DME/IRU MEA
TWIGS, MI WP | JAAJA, CA WP | *18000 | 45000
*18000—GNSS MEA
*DME/DME/IRU MEA
JAAJA, CA WP | ICHOL, CA WP | *18000 | 45000
*18000—GNSS MEA
*DME/DME/IRU MEA
ICHOL, CA WP | FARGN, CA WP | *18000 | 45000
*18000—GNSS MEA
*DME/DME/IRU MEA
FARGN, CA WP | RAAKK, NY WP | *18000 | 45000
*18000—GNSS MEA
*DME/DME/IRU MEA

From | To | MEA
§ 95.6001 VICTOR ROUTES-U.S
§ 95.6002 VOR Federal Airway V2 Is Amended To Read in Part
BADGER, WI VORTAC | SUDDS, WI FIX | 2900
SUDDS, WI FIX | LYSTR, MI FIX | *4000
*2500—MOCA
LYSTR, MI FIX | MUSKEGON, MI VORTAC | #
#UNUSEABLE
§ 95.6058 VOR Federal Airway V58 Is Amended To Read in Part
HELON, NY FIX | KINGSTON, NY VOR/DME | 4000
Is Amended To Delete
WILLIAMSPORT, PA VOR/DME | LOPEZ, PA FIX | 4500
LOPEZ, PA FIX | LAKE HENRY, PA VORTAC | 4000
LAKE HENRY, PA VORTAC | KINGSTON, NY VOR/DME | 4000
§ 95.6066 VOR Federal Airway V66 Is Amended To Read in Part
RALEIGH/DURHAM, NC VORTAC | FRANKLIN, VA VORTAC | 2600
§ 95.6093 VOR Federal Airway V93 Is Amended To Read in Part
WILKES-BARRE, PA VORTAC | LAAYK, PA FIX
NE BND |  | *5000
SW BND |  | *4000
*4000—MOCA
HELON, NY FIX | KINGSTON, NY VOR/DME | 4000
Is Amended To Delete
WILKES-BARRE, PA VORTAC | LAKE HENRY, PA VORTAC | 4000
LAKE HENRY, PA VORTAC | HELON, NY FIX | 4000
§ 95.6106 VOR Federal Airway V106 Is Amended To Read in Part
WILKES-BARRE, PA VORTAC | LAAYK, PA FIX.
NE BND |  | *5000
SW BND |  | *4000
*4000—MOCA
Is Amended To Delete
WILKES-BARRE, PA VORTAC | LAKE HENRY, PA VORTAC | 4000
LAKE HENRY, PA VORTAC | WEARD, NY FIX | 4000
WEARD, NY FIX | WEETS, NY FIX | 6000
|  | MAA—14500
WEETS, NY FIX | PAWLING, NY VOR/DME
W BND |  | 6000
E BND |  | 4000
PAWLING, NY VOR/DME | COBOL, MA FIX | *4000
*3500—MOCA
COBOL, MA FIX | BARNES, MA VORTAC | 3500
§ 95.6126 VOR Federal Airway V126 Is Amended To Delete
STONYFORK, PA VOR/DME | LAKE HENRY, PA VORTAC | 4000
LAKE HENRY, PA VORTAC | SPARTA, NJ VORTAC | 4000
§ 95.6129 VOR Federal Airway V129 Is Amended To Read in Part
SPINNER, IL VORTAC | PEORIA, IL VORTAC | 2500
§ 95.6140 VOR Federal Airway V140 Is Amended To Read in Part
PANHANDLE, TX VORTAC | ZESUS, TX FIX | *5800
*4900—MOCA
ZESUS, TX FIX | SAYRE, OK VORTAC
E BND |  | *5000
W BND |  | *5800
*4500—MOCA
§ 95.6149 VOR Federal Airway V149 Is Amended To Delete
MAZIE, PA FIX | ALLENTOWN, PA VORTAC | #*6000
*3000—GNSS MEA
#ALLENTOWN R-157 UNUSABLE
ALLENTOWN, PA VORTAC | LAKE HENRY, PA VORTAC | 4000
LAKE HENRY, PA VORTAC | BINGHAMTON, NY VORTAC | 4000
Is Amended To Read in Part
ALLENTOWN, PA VORTAC | BINGHAMTON, NY VORTAC | *5000
*4000—MOCA
§ 95.6153 VOR Federal Airway V153 Is Amended To Delete
LAKE HENRY, PA VORTAC | GROWS, NY FIX | 4500
GROWS, NY FIX | GEORGETOWN, NY VORTAC | *4500
*3800—MOCA
*4000—GNSS MEA
GEORGETOWN, NY VORTAC | SYRACUSE, NY VORTAC | 4000
§ 95.6194 VOR Federal Airway V194 Is Amended To Read in Part
COLLEGE STATION, TX VORTAC | PRARI, TX FIX | *7000
*2000—MOCA
*2000—GNSS MEA
PRARI, TX FIX | *SEALY, TX FIX | **7000
*7000—MCA SEALY, TX FIX, NW BND
**3500—MOCA
**3500—GNSS MEA
§ 95.6212 VOR Federal Airway V212 Is Amended To Read in Part
JOHON, LA FIX | SETTA, MS FIX | *4000
*2000—MOCA
SETTA, MS FIX | MC COMB, MS VORTAC | *3000
*2000—MOCA
§ 95.6216 VOR Federal Airway V216 Is Amended To Read in Part
JANESVILLE, WI VOR/DME | WIPED, WI FIX | #
#UNUSEABLE
WIPED, WI FIX | PETTY, WI FIX | #
#UNUSEABLE
PETTY, WI FIX | SQUIB, MI FIX | #
#UNUSEABLE
SQUIB, MI FIX | MUSKEGON, MI VORTAC | #
#UNUSEABLE
§ 95.6245 VOR Federal Airway V245 Is Amended To Read in Part
NATCHEZ, MS VOR/DME | MAGNOLIA, MS VORTAC | 3500
§ 95.6270 VOR Federal Airway V270 Is Amended To Read in Part
BINGHAMTON, NY VORTAC | DELANCEY, NY VOR/DME | 4500
§ 95.6345 VOR Federal Airway V345 Is Amended To Delete
HAYWARD, WI VOR/DME | *GRASS, WI FIX | #**10000
*6000—MRA
*10000—MCA GRASS, WI FIX, SW BND
**3000—MOCA
**4000—GNSS MEA
#HAYWARD UNUSABLE BELOW 10000
*GRASS, WI FIX | ASHLAND, WI VOR/DME | **4000
*6000—MRA
**2900—MOCA
**3000—GNSS MEA
§ 95.6408 VOR Federal Airway V408 Is Amended To Delete
ALLENTOWN, PA VORTAC | LAKE HENRY, PA VORTAC | 4000
LAKE HENRY, PA VORTAC | PRNCE, NY FIX | 6000 MAA—15000
PRNCE, NY FIX | SAGES, NY FIX | 6400 MAA—15000
§ 95.6449 VOR Federal Airway V449 Is Amended To Delete
MILTON, PA VORTAC | MEGSS, PA FIX | #3500
#GNSS MEA
MEGSS, PA FIX | LAKE HENRY, PA VORTAC | #4000
#GNSS MEA
LAKE HENRY, PA VORTAC | DELANCEY, NY VOR/DME | 4300
DELANCEY, NY VOR/DME | ALBANY, NY VORTAC | 5000
§ 95.6494 VOR Federal Airway V494 Is Amended To Read in Part
SANTA ROSA, CA VOR/DME | POPES, CA FIX | 5000
POPES, CA FIX | *RAGGS, CA FIX | 5100
*8500—MRA
*RAGGS, CA FIX | SACRAMENTO, CA VORTAC | 5100
*8500—MRA
§ 95.6548 VOR Federal Airway V548 Is Amended To Read in Part
HOBBY, TX VOR/DME | *SEALY, TX FIX | 2000
*7000—MCA SEALY, TX FIX, NW BND
SEALY, TX FIX | PRARI, TX FIX | *7000
*3500—MOCA
*3500—GNSS MEA
PRARI, TX FIX | COLLEGE STATION, TX VORTAC | *7000
*2000—MOCA
*2000—GNSS MEA
§ 95.6566 VOR Federal Airway V566 Is Amended To Read in Part
MUSHE, LA FIX | FISTY, LA FIX | *4000
*1700—MOCA
FISTY, LA FIX | *WRACK, LA FIX | #
*4000—MRA
#ALEXANDRIA R-106 UNUSABLE BEYOND 48 NM
#UNUSABLE
§ 95.6569 VOR Federal Airway V569 Is Amended To Read in Part
FRANKSTON, TX VOR/DME | CEDAR CREEK, TX VORTAC | 2500
§ 95.6615 VOR Federal Airway V615 Is Amended To Read in Part
RALEIGH/DURHAM, NC VORTAC | DUFFI, NC FIX | 2600
§ 95.6436 ALASKA VOR Federal Airway V436 Is Amended To Read in Part
CHANDALAR LAKE, AK NDB | *ARTIC, AK FIX | 10000
*7000—MCA ARTIC, AK FIX, SE BND
ARTIC, AK FIX | PIPET, AK FIX.
| SE BND | *10000
| NW BND | *6000
*4500—MOCA
*5000—GNSS MEA
PIPET, AK FIX | BIXER, AK FIX
| SE BND | *10000
| NW BND | *5000
*3900—MOCA
*4000—GNSS MEA
BIXER, AK FIX | ARCON, AK FIX
| SE BND | 10000
| NW BND | 3000
ARCON, AK FIX | DEADHORSE, AK VOR/DME
| SE BND | 10000
| NW BND | 2000
§ 95.6438 ALASKA VOR Federal Airway V438 Is Amended To Read in Part
RIGGS, AK FIX | OILEE, AK FIX
| SE BND | 10000
| NW BND | 8000
OILEE, AK FIX | WIMAN, AK FIX
| SE BND | 10000
| NW BND | 5000
WIMAN, AK FIX | UVALL, AK FIX
| SE BND | *10000
| NW BND | *4000
*3200—MOCA
UVALL, AK FIX | DEADHORSE, AK VOR/DME
| SE BND | 10000
| NW BND | 2000
DEADHORSE, AK VOR/DME | OOSIK, AK FIX
| W BND | *6000
| E BND | *2000
*1300—MOCA
TUNDA, AK FIX | BARROW, AK VOR/DME
| E BND | *6000
| W BND | *3000
*1500—MOCA
§ 95.6447 ALASKA VOR Federal Airway V447 Is Amended To Read in Part
*DOMEY, AK FIX | TATTA, AK FIX.
| NW BND | **11000
| SE BND | **7000
*7000—MRA
**5400—MOCA
§ 95.6504 ALASKA VOR Federal Airway V504 Is Amended To Read in Part
DERIK, AK FIX | MUKTU, AK FIX
| S BND | *10000
| N BND | *7000
*3800—MOCA
MUKTU, AK FIX | SHELO, AK FIX
| S BND | *10000
| N BND | *5000
*3000—MOCA
SHELO, AK FIX | DEADHORSE, AK VOR/DME
| S BND | 10000
| N BND | 2000

From | To | MEA | MAA
§ 95.7001 Jet Routes
§ 95.7036 Jet Route J36 Is Amended To Delete
FLINT, MI VORTAC | U.S. CANADIAN BORDER | 18000 | 45000
U.S. CANADIAN BORDER | DUNKIRK, NY VORTAC | 18000 | 45000
DUNKIRK, NY VORTAC | MTCAF, PA FIX | 31000 | 45000
MTCAF, PA FIX | LAKE HENRY, PA VORTAC | 18000 | 37000
LAKE HENRY, PA VORTAC | SPARTA, NJ VORTAC | 18000 | 45000
§ 95.7068 Jet Route J68 Is Amended To Delete
FLINT, MI VORTAC | U.S. CANADIAN BORDER | 18000 | 45000
U.S. CANADIAN BORDER | DUNKIRK, NY VORTAC | 18000 | 45000

Airway segment: From | Airway segment: To | Changeover points: Distance | Changeover points: From
§ 95.8003 VOR Federal Airway Changeover Point
V2 Is Amended To Modify Changeover Point
BADGER, WI VORTAC | MUSKEGON, MI VORTAC | 56 | BADGER.
V216 Is Amended To Delete Changeover Point
JANESVILLE, WI VOR/DME | MUSKEGON, MI VORTAC | 92 | JANESVILLE.
V245 Is Amended To Add Changeover Point
NATCHEZ, MS VOR/DME | MAGNOLIA, MS VORTAC | 25 | NATCHEZ.

[FR Doc. 2013-22863 Filed 9-18-13; 8:45 am]

BILLING CODE 4910-13-P